DEPARTMENT OF HOMELAND SECURITY

Coast Guard

[USCG-2006-23665]

Collection of Information Under Review by Office of Management and Budget: OMB Control Numbers 1625-0009, 1625-0014, 1625-0038, and 1625-0039

AGENCY: Coast Guard, DHS.

ACTION: Request for comments.

SUMMARY: In compliance with the Paperwork Reduction Act of 1995, the U.S. Coast Guard intends to seek the approval of OMB for the renewal of four Information Collection Requests (ICRs). The ICRs are: (1) 1625-0009, Oil Record Book for Ships; (2) 1625-0014, Request for Designation and Exemption of Oceanographic Research Vessels; (3) 1625-0038, Plan Approval and Records for Tank, Passenger, Cargo and Miscellaneous Vessels, Mobile Offshore Drilling Units, Nautical School Vessels, Oceanographic Research Vessels and Electrical Engineering ? 46 CFR Subchapters D, H, I, I-A, J, R, and U; and (4) 1625-0039, Declaration of Inspection Before Transfer of Liquid Cargo in Bulk. Before submitting the ICRs to OMB, the Coast Guard is inviting comments on them as described below.

DATES: Comments must reach the Coast Guard on or before March 28, 2006.

ADDRESSES: To make sure that your comments and related material do not enter the docket [USCG-2006-23665] more than once, please submit them by only one of the following means:

(1) By mail to the Docket Management Facility, U.S. Department of Transportation (DOT), room PL-401, 400 Seventh Street, SW., Washington, DC 20590-0001.

(2) By delivery to room PL-401 on the Plaza level of the Nassif Building, 400 Seventh Street, SW., Washington, DC, between 9 a.m. and 5 p.m., Monday through Friday, except Federal holidays. The telephone number is 202-366-9329.

(3) By fax to the Docket Management Facility at 202-493-2251.

(4) Electronically through the Web Site for the Docket Management System at http://dms.dot.gov.

The Docket Management Facility maintains the public docket for this notice. Comments and material received from the public, as well as documents mentioned in this notice as being available in the docket, will become part of this docket and will be available for inspection or copying at room PL-401 on the Plaza level of the Nassif Building, 400 Seventh Street, SW., Washington, DC, between 9 a.m. and 5 p.m., Monday through Friday, except Federal holidays. You may also find this docket on the Internet at http://dms.dot.gov.

Copies of the complete ICRs are available through this docket on the Internet at http://dms.dot.gov, and also from Commandant (CG-611), U.S. Coast Guard Headquarters, room 6106 (Attn: Mr. Arthur Requina), 1900 Half Street, SW., Washington, DC 20593-0001. The telephone number is 202-475-3523.

FOR FURTHER INFORMATION CONTACT: Mr. Arthur Requina, Office of Information Management, telephone 202-475-3523, or fax 202-475-3529, for questions on these documents; or telephone Ms. Renee V. Wright, Program Manager, Docket Operations, 202-493-0402, for questions on the docket.

SUPPLEMENTARY INFORMATION: Public participation and request for comments.

We encourage you to respond to this request for comments by submitting comments and related materials. We will post all comments received, without change, to http://dms.dot.gov; they will include any personal information you have provided. We have an agreement with DOT to use the Docket Management Facility. Please see the paragraph on DOT's “Privacy Act Policy” below.

Submitting comments: If you submit a comment, please include your name and address, identify the docket number [USCG-2006-23665], indicate the specific section of the document to which each comment applies, and give the reason for each comment. You may submit your comments and material by electronic means, mail, fax, or delivery to the Docket Management Facility at the address under ADDRESSES; but please submit them by only one means. If you submit them by mail or delivery, submit them in an unbound format, no larger than 8½ by 11 inches, suitable for copying and electronic filing. If you submit them by mail and would like to know that they reached the Facility, please enclose a stamped, self-addressed postcard or envelope. We will consider all comments and material received during the comment period. We may change the documents supporting this collection of information or even the underlying requirements in view of them.

Viewing comments and documents: To view comments, as well as documents mentioned in this notice as being available in the docket, go to http://dms.dot.gov at any time and conduct a simple search using the docket number. You may also visit the Docket Management Facility in room PL-401 on the Plaza level of the Nassif Building, 400 Seventh Street, SW., Washington, DC, between 9 a.m. and 5 p.m., Monday through Friday, except Federal holidays.

Privacy Act: Anyone can search the electronic form of all comments received in dockets by the name of the individual submitting the comment (or signing the comment, if submitted on behalf of an association, business, labor union, etc.). You may review the Privacy Act Statement of DOT in the Federal Register published on April 11, 2000 (65 FR 19477), or you may visit http://dms.dot.gov.

Information Collection Request

1. Title: Oil Record Book for Ships.

OMB Control Number: 1625-0009.

Summary: The Act to Prevent Pollution from Ships (APPS), 33 U.S.C. 1901-1911, and the International Convention for Prevention of Pollution from Ships, 1973, as modified by the 1978 Protocol relating thereto (MARPOL 73/78), require that information about oil cargo or fuel operations be entered into an Oil Record Book (CG-4602A). The requirement is contained in 33 CFR 151.25.

Need: This information is used to verify sightings of actual violations of the APPS to determine the level of compliance with MARPOL 73/78 and as a means of reinforcing the discharge provisions.

Respondents: Operators of vessels.

Frequency: On occasion.

Burden Estimate: The estimated burden has decreased from 29,048 hours to 26,993 hours a year.

2. Title: Request for Designation and Exemption of Oceanographic Research Vessels.

OMB Control Number: 1625-0014.

Summary: Title 46 U.S.C. 2113 authorizes the Secretary of Homeland Security to exempt Oceanographic Research Vessels, by regulation, from provisions of Subtitle II, of Title 46, Shipping, of the United States Code, concerning maritime safety and seaman's welfare laws.

Need: This information is necessary to ensure a vessel qualifies for the designation.

Respondents: Owners or operators of vessels.

Frequency: On occasion.

Burden Estimate: The estimated burden has increased from 21 hours to 51 hours a year.

3. Title: Plan Approval and Records for Tank, Passenger, Cargo and Miscellaneous Vessels, Mobile Offshore Drilling Units, Nautical School Vessels, Oceanographic Research Vessels and Electrical Engineering ? 46 CFR Subchapters D, H, I, I-A, J, R, and U.

OMB Control Number: 1625-0038.

Summary: This information collection requires the shipyard, designer or manufacturer for the construction of a vessel to submit plans, technical information and operating manuals to the Coast Guard.

Need: Under 46 U.S.C. 3301, 3306, and 3307, the Coast Guard is responsible for enforcing regulations promoting the safety of life and property in marine transportation. The Coast Guard uses this information to ensure that a vessel meets the applicable standards for construction, arrangement and equipment.

Respondents: Shipyards, designers, and manufacturers of certain vessels.

Frequency: On occasion.

Burden Estimate: The estimated burden has increased from 8,835 hours to 13,790 hours a year.

4. Title: Declaration of Inspection Before Transfer of Liquid Cargo in Bulk.

OMB Control Number: 1625-0039.

Summary: A Declaration of Inspection (DOI) documents the transfer of oil and hazardous materials, to help prevent spills and damage to a facility or vessel. Persons-in-charge of the transfer operations must review and certify compliance with procedures specified by the terms of the DOI.

Need: 33 U.S.C. 1231 authorizes the Coast Guard to establish regulations to prevent the discharge of oil and hazardous material from vessels and facilities. The DOI regulations appear at 33 CFR 156.150 and 46 CFR 35.35-30.

Respondents: Persons-in-charge of transfers.

Frequency: On occasion.

Burden Estimate: The estimated burden has increased from 66,223 hours to 68,534 hours a year.

Dated: January 20, 2006.
R.T. Hewitt,
Rear Admiral, U.S. Coast Guard, Assistant Commandant for Command, Control, Communications, Computers and Information Technology.

[FR Doc. E6-1013 Filed 1-26-06; 8:45 am]

BILLING CODE 4910-15-P